DEPARTMENT OF TRANSPORTATION

Federal Aviation Administration

14 CFR Part 39

[Docket No. FAA-2025-0743; Project Identifier MCAI-2024-00711-R; Amendment 39-23024; AD 2025-09-03]

RIN 2120-AA64

Airworthiness Directives; Bell Textron Canada Limited Helicopters

AGENCY: Federal Aviation Administration (FAA), DOT.

ACTION: Final rule; request for comments.

SUMMARY: The FAA is superseding Airworthiness Directive (AD) 2021-24-09, which applied to certain Bell Textron Canada Limited Model 430 helicopters. AD 2021-24-09 required a visual inspection of the main rotor (M/R) pitch link clevis (clevis), rod end, and a certain part-numbered universal bearing, performing a purge grease, and performing a magnetic particle inspection of each M/R clevis, and depending on the inspection results, removing or replacing certain parts and performing additional actions. AD 2021-24-09 also required recurring inspections of each M/R clevis and each universal bearing. Since the FAA issued AD 2021-24-09, the manufacturer has reduced the life limits of the affected parts and introduced new M/R pitch link assemblies by re-identifying the M/R pitch link assemblies that were required to be inspected by AD 2021-24-09. This AD requires similar actions as AD 2021-24-09 but reduces the life limits and requires replacing the M/R pitch link assemblies with re-identified part numbered assemblies. These actions are specified in a Transport Canada AD, which is incorporated by reference. The FAA is issuing this AD to address the unsafe condition on these products.

DATES: This AD is effective May 13, 2025.

The Director of the Federal Register approved the incorporation by reference of a certain publication listed in this AD as of May 13, 2025.

The FAA must receive comments on this AD by June 12, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0743; or in person at Docket Operations between 9 a.m. and 5 p.m., Monday through Friday, except Federal holidays. The AD docket contains this final rule, the mandatory continuing airworthiness information (MCAI), any comments received, and other information. The street address for Docket Operations is listed above.

Material Incorporated by Reference:

• For Transport Canada material identified in this AD, contact Transport Canada, Transport Canada National Aircraft Certification, 159 Cleopatra Drive, Nepean, Ontario, K1A 0N5, CANADA; phone: (888) 663-3639; email: TC.AirworthinessDirectives-Consignesdenavigabilite.TC@tc.gc.ca. You may find the Transport Canada material on the Transport Canada website at tc.canada.ca/en/aviation.

• You may view this material at the FAA, Office of the Regional Counsel, Southwest Region, 10101 Hillwood Parkway, Room 6N-321, Fort Worth, TX 76177. For information on the availability of this material at the FAA, call (817) 222-5110. It is also available at regulations.gov under Docket No. FAA-2025-0743.

FOR FURTHER INFORMATION CONTACT: Alexis Whitaker, Aviation Safety Engineer, FAA, FAA, 1600 Stewart Avenue, Suite 410, Westbury, NY; phone: (516) 228-7309; email: alexis.j.whitaker@faa.gov.

SUPPLEMENTARY INFORMATION:

Comments Invited

The FAA invites you to send any written data, views, or arguments about this final rule. Send your comments to an address listed under the ADDRESSES section. Include “Docket No. FAA-2025-0743; Project Identifier MCAI-2024-00711-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Alexis Whitaker, Aviation Safety Engineer, FAA, 1600 Stewart Avenue, Suite 410, Westbury, NY. Any commentary that the FAA receives which is not specifically designated as CBI will be placed in the public docket for this rulemaking.

Background

The FAA issued AD 2021-24-09, Amendment 39-21830 (86 FR 66158, November 22, 2021) (AD 2021-24-09), for Bell Textron Canada Limited Model 430 helicopters, serial numbers 49001 through 49129, inclusive. AD 2021-24-09 was prompted by an MCAI originated by Transport Canada, which is the aviation authority for Canada. Transport Canada issued AD CF-2021-26, dated July 26, 2021 (Transport Canada AD CF-2021-26) to address an in-flight failure of an M/R clevis, which resulted in loss of control of the helicopter and fatal injuries to occupants. AD 2021-24-09 required a visual inspection of the M/R clevis, rod end, and a certain part-numbered universal bearing, performing a purge grease, and performing a magnetic particle inspection of each M/R clevis. Depending on the visual inspection and magnetic particle inspection results, AD 2021-24-09 required removing certain parts from service, replacing certain parts, and performing additional actions. AD 2021-24-09 also required recurring inspections of each M/R clevis and each universal bearing. The FAA issued AD 2021-24-09 to detect and address any wear and damage of the M/R clevis neck or threaded area, which could lead to crack initiation at the M/R clevis neck and failure of the M/R pitch link, resulting in loss of control of the helicopter.

Actions Since AD 2021-24-09 Was Issued

Since the FAA issued AD 2021-24-09, Transport Canada superseded Transport Canada AD CF-2021-26 and issued Transport Canada AD CF-2024-40, dated December 3, 2024 (Transport Canada AD CF-2024-40) (also referred to after this as “the MCAI”). The MCAI states that Bell Textron Canada Limited has revised Chapter 4, Airworthiness Limitations Section (ALS) of the Model 430 helicopter maintenance manual. Rather than having an airworthiness life assigned to the M/R pitch link assembly, Bell Textron Canada Limited has assigned individual life limits on the M/R clevises, universal bearings, universal to pitch link bolts, the tube assembly, and the rod end assembly. Bell Textron Canada Limited also revised its service information, which specifies re-identifying M/R pitch link assemblies from part number (P/N) 430-010-411-105 and P/N 430-010-411-107, which were required to be inspected by AD 2021-24-09, to P/N 430-010-411-109 and P/N 430-010-411-111, respectively. According to the MCAI, the unsafe condition, if not addressed, could lead to crack initiation at the M/R clevis neck or threaded area and failure of the M/R pitch link, which could result in loss of control of the helicopter.

You may examine the MCAI in the AD docket at regulations.gov under Docket No. FAA-2025-0743.

Material Incorporated by Reference Under 1 CFR Part 51

The FAA reviewed Transport Canada AD CF-2024-40, which specifies procedures for verifying rotorcraft historical records to determine the total accumulated hours air time of certain parts, replacing the M/R pitch link assembly components that have exceeded their life limit, re-identifying the M/R pitch link assemblies, and performing a detailed visual inspection of the pitch link tube assembly, rod end assembly, and universal pitch link bolt. Transport Canada AD CF-2024-40 also requires performing repetitive detailed visual inspections of the M/R clevises and universal bearings (including hardware). Depending on the inspection results, Transport Canada CF-2024-40 specifies replacing any part that does not meet inspection criteria or further corrective actions. Additionally, Transport Canada AD CF-2024-40 specifies performing a purge grease of each universal bearing and performing a magnetic particle inspection of the M/R clevis and either replacing any M/R clevis with cracks or replacing any missing cadmium plating. Transport Canada AD CF-2024-40 specifies reporting any cracks or M/R clevises with damage beyond published limits to Bell Product Support Engineering.

This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI referenced above. The FAA is issuing this AD after determining that the unsafe condition described previously is likely to exist or develop on other products of the same type design.

AD Requirements

This AD requires similar actions as AD 2021-24-09 but reduces the life limits of the affected parts and requires re-identifying the M/R pitch link assemblies with new part numbered assemblies by accomplishing the actions specified in the MCAI, except for any differences identified in the regulatory text of this AD. See “Differences Between this AD and the MCAI” for a discussion of these differences.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, Transport Canada AD CF-2024-40 is incorporated by reference in this AD. This AD requires compliance with Transport Canada AD CF-2024-40 in its entirety through that incorporation, except for any differences identified as exceptions in the regulatory text of this AD. Material required by Transport Canada AD CF-2024-40 for compliance will be available at regulations.gov under Docket No. FAA-2025-0743 after this AD is published.

Differences Between This AD and the MCAI

The MCAI uses the term “new,” while this AD uses the term “new (zero hours time-in-service).”

The MCAI requires performing a magnetic particle inspection (MPI) if any suspected defects are found, while this AD requires performing an MPI after performing each detailed visual inspection.

The MCAI requires replacing M/R pitch link assembly P/Ns 430-010-411-109, -109 FM, -111, and -111FM before they exceed their life limit. This AD does not contain that requirement because those assemblies do not have a life limit and are replaced on condition; instead, the individual components of the assembly are life-limited.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because if the M/R pitch link clevises, the universal bearings, and the universal to pitch link bolt remain in service beyond their reduced life limits, this could lead to crack initiation at the M/R clevis neck or threaded area and consequent failure of the M/R pitch link, which could result in loss of control of the helicopter. In addition, the compliance time for the required actions is within 50 hours time-in-service or 60 days, whichever occurs first after the effective date of this AD, which is a shorter time period than the time necessary for the public to comment and for publication of the final rule. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 29 helicopters of U.S. registry. Labor rates are estimated at $85 per hour. Based on these numbers, the FAA estimates that operators may incur the following costs to comply with this AD.

Estimated Costs
Action | Labor cost | Parts cost | Cost per product | Cost on U.S. operators
Review records to determine total time on each part | .25 work-hour × $85 per hour = $22 | $0 | $22 | $638.
Inspect the pitch link tube assembly, rod end assembly, and universal to pitch link bolt | 4 work-hours × $85 per hour = $340 | 0 | $340 | $9,860.
Inspect the M/R pitch link clevis | 4 work-hours × $85 per hour = $340 | 0 | $340 per inspection cycle | $9,860 per inspection cycle.
Inspect the universal bearing and hardware | 4 work-hours × $85 per hour = $340 | 0 | $340 per inspection cycle | $9,860 per inspection cycle.
Re-identify components | .25 work-hour × $85 per hour = $22 | 0 | $22 | $638.
Perform a magnetic particle inspection | 2 work-hours × $85 per hour = $170 | 0 | $170 per inspection cycle | $4,930 per inspection cycle.

The FAA estimates the following costs to do any repairs/replacements that would be required based on the results of the inspection. The agency has no way of determining the number of helicopters that might need these repairs or replacements:

On-Condition Costs
Action | Labor cost | Parts cost | Cost per product
Replace an M/R clevis | 4 work-hours × $85 per hour = $340 | $432 | $772 per part.
Replace a universal bearing | 4 work-hours × $85 per hour = $340 | 3,566 | $3,906 per part.
Replace a universal to pitch link bolt | 4 work-hours × $85 per hour = $340 | 374 | $714 per part.
Replace missing cadmium plating | 4 work-hours × $850 per hour = $340 | 0 | $340.
Replace a pitch link tube assembly or rod end assembly | 4 work-hours × $85 per hour = $340 | 6,463 | $6,803 per part.

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2021-24-09, Amendment 39-21830 (86 FR 66158, November 22, 2021); and

b. Adding the following new airworthiness directive:

2025-09-03 Bell Textron Canada Limited: Amendment 39-23024; Docket No. FAA-2025-0743; Project Identifier MCAI-2024-00711-R.

(a) Effective Date

This airworthiness directive (AD) is effective May 13, 2025.

(b) Affected ADs

This AD replaces AD 2021-24-09, Amendment 39-21830 (86 FR 66158, November 22, 2021).

(c) Applicability

This AD applies to Bell Textron Canada Limited Model 430 helicopters, serial numbers 49001 through 49129 inclusive, certificated in any category.

(d) Subject

Joint Aircraft System Component (JASC) Code 6220, Main rotor head.

(e) Unsafe Condition

This AD was prompted by an in-flight failure of the main rotor (M/R) pitch link clevis (clevis) due to fatigue damage and excessive wear. The FAA is issuing this AD to detect and address wear and damage of the M/R pitch link assembly components. The unsafe condition, if not addressed, could result in crack initiation at the M/R clevis neck and failure of the M/R pitch link, which could result in loss of control of the helicopter.

(f) Compliance

Comply with this AD within the compliance times specified, unless already done.

(g) Requirements

Except as specified in paragraphs (h) and (i) of this AD: Comply with all required actions and compliance times specified in, and in accordance with, Transport Canada AD CF-2024-40, dated December 3, 2024 (Transport Canada AD CF-2024-40).

(h) Exceptions to Transport Canada AD CF-2024-40

(1) Where Transport Canada AD CF-2024-40 uses the term “new” in the definition of “serviceable part,” this AD requires replacing that text with “new (zero hours time-in-service).”

(2) Where Transport Canada AD CF-2024-40 requires compliance in terms of hours air time, this AD requires using hours time-in-service.

(3) Where Transport Canada AD CF-2024-40 refers to its effective date, this AD requires using the effective date of this AD.

(4) Where any paragraph in Transport Canada AD CF-2024-40 specifies performing a magnetic particle inspection (MPI) “if any suspected defects are found” after performing a detailed visual inspection, this AD requires performing an MPI after performing each detailed visual inspection.

(5) Where Part I paragraph A.8. and Part III paragraph B. of Transport Canada AD CF-2024-40 specify to purge grease the bearings, for this AD those actions are not required if already accomplished when doing Part I paragraph A.7 and Part III paragraph A. of Transport Canada AD CF-2024-40.

(6) Where Part I paragraph A.9. of Transport Canada AD CF-2024-40 specifies to re-identify the main rotor pitch link assemblies and sub-components, for this AD those actions are not required if already accomplished when doing Part I paragraphs A.2. through A.4. of Transport Canada AD CF-2024-40.

(7) Where Part I paragraph B. of Transport Canada CF-2024-40 specifies “replace each component listed in Table 1 of the Bell ASB before exceeding the applicable airworthiness life limit indicated in Table 4-1 of the applicable ALS,” for this AD that requirement does not apply to M/R pitch link assemblies part numbers 430-010-411-109, -109FM, -111, and -111FM.

(i) No Reporting Requirement

Although the material referenced in Transport Canada AD CF-2024-40 specifies to submit certain information to the manufacturer, this AD does not require that action.

(j) Special Flight Permits

A special flight permit may be issued in accordance with 14 CFR 21.197 and 21.199 to fly to a maintenance area to perform the required actions in this AD, provided there are no passengers onboard.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD and email to: AMOC@faa.gov.

(2) Before using any approved AMOC, notify your appropriate principal inspector, or lacking a principal inspector, the manager of the local Flight Standards District Office/certificate holding district office.

(l) Additional information

For more information about this AD, contact Alexis Whitaker, Aviation Safety Engineer, FAA, 1600 Stewart Avenue, Suite 410, Westbury, NY; phone: (516) 228-7309; email: alexis.j.whitaker@faa.gov.

(m) Material Incorporated by Reference

(1) The Director of the Federal Register approved the incorporation by reference of the material listed in this paragraph under 5 U.S.C. 552(a) and 1 CFR part 51.

(2) You must use this material as applicable to do the actions required by this AD, unless the AD specifies otherwise.

(i) Transport Canada AD CF-2024-40, dated December 3, 2024.

(ii) [Reserved]

(3) For Transport Canada material identified in this AD, contact Transport Canada National Aircraft Certification, 159 Cleopatra Drive, Nepean, Ontario K1A 0N5, Canada; phone: 888-663-3639; email: TC.AirworthinessDirectives-Consignesdenavigabilite.TC@tc.gc.ca. You may find this material on the Transport Canada website at tc.canada.ca/en/aviation.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on April 22, 2025.
Steven W. Thompson,
Acting Deputy Director, Compliance & Airworthiness Division, Aircraft Certification Service.

[FR Doc. 2025-07275 Filed 4-23-25; 4:15 pm]

BILLING CODE 4910-13-P